DEPARTMENT OF LABOR

Employee Benefits Security Administration

29 CFR Part 2570

RIN 1210-AC05

Reopening of Comment Period and Hearing Regarding Proposed Amendment to Procedures Governing the Filing and Processing of Prohibited Transaction Exemption Applications

AGENCY: Employee Benefits Security Administration.

ACTION: Hearing announcement and reopening of the comment period.

SUMMARY: The Department of Labor's Employee Benefits Security Administration (EBSA) will hold a virtual public hearing regarding the proposed amendment to its prohibited transaction exemption filing and processing procedures. EBSA welcomes requests from the general public to testify at the hearing.

As discussed in the DATES section below, the Department of Labor (the Department) also is reopening the comment period regarding the proposed amendment to its prohibited transaction exemption filing and processing procedures.

DATES: The public hearing will be held on September 15, 2022, and (if necessary) September 16, 2022, via WebEx beginning at 9 a.m. EDT. Requests to testify at the hearing should be submitted to the Department on or before September 8, 2022. The Department will reopen the comment period for the proposed amendment on September 15, 2022. The Department will publish a Federal Register notice announcing that the hearing transcript is available on EBSA's web page and when the reopened comment period closes.

ADDRESSES: Please submit all comments and requests to testify concerning the proposed rule to the Office of Exemption Determinations through the Federal eRulemaking Portal at www.regulations.gov using Docket ID number EBSA-2022-0003. Instructions are provided at the end of this notice.

FOR FURTHER INFORMATION CONTACT: Brian Shiker, Office of Exemption Determinations, EBSA, by phone at (202) 693-8552 (not a toll-free number) or email shiker.brian@dol.gov.

SUPPLEMENTARY INFORMATION:

Background

This spring, the Department published a proposed amendment (the Rule) that would update its existing procedures governing the filing and processing of applications for administrative exemptions from the prohibited transaction provisions of the Employee Retirement Income Security Act, the Internal Revenue Code, and the Federal Employees' Retirement System Act. The Rule was published in the Federal Register (87 FR 14722) on March 15, 2022.

The Department received 29 comment letters on the Rule before the public comment period ended on May 29, 2022. After consideration of the comments, including a written request for a public hearing, the Department has decided to hold a virtual public hearing to provide an opportunity for all interested parties to testify on material factual information regarding the Rule.

The hearing will be held via WebEx on September 15, 2022, and (if necessary) September 16, 2022, beginning at 9 a.m. EDT. It will be transcribed. Registration information to access and view the hearing will be available on EBSA's website: www.dol.gov/agencies/ebsa.

Instructions for Submitting Requests To Testify

Individuals and organizations interested in testifying at the public hearing must submit a written request to testify and a summary of their testimony by September 8, 2022. Requests to testify must include:

(1) the name, title, organization, address, email address, and telephone number of the individual who would testify;

(2) if applicable, the name of the organization(s) whose views would be represented;

(3) the date of the requestor's written comment on the Rule (if applicable); and

(4) a concise summary of the testimony that would be presented.

Any requestors with disabilities requiring special accommodations for their testimony should contact Mr. Brian Shiker after submitting their written request.

The Department will organize the hearing into several moderated panels. Presenters will be given 10 minutes to testify, and they should be prepared to answer questions regarding their testimony. EBSA will post an agenda containing the panel compositions and presentation times on www.dol.gov/agencies/ebsa no later than September 13, 2022.

EBSA may limit the number of presenters based on how many testimony requests it receives. In that event, EBSA will ensure that the broadest array of viewpoints on all aspects of the Rule are represented and will include in the public record all testimony summaries it receives.

Reopening of Comment Period

The Department will reopen the Rule's comment period beginning on the hearing date (September 15, 2022) until approximately 14 days after the Department publishes the hearing transcript on EBSA's web page. The Department will publish a Federal Register notice announcing that the hearing transcript is available on EBSA web page and when the reopened comment period closes.

All comments and requests to testify will be available to the public, without charge, online at www.regulations.gov, at Docket ID number: EBSA-2022-0003 and www.dol.gov/ebsa. They also will be available for public inspection in the Public Disclosure Room of the Employee Benefits Security Administration, U.S. Department of Labor, Room N-1513, 200 Constitution Avenue NW, Washington, DC 20210; however, the Public Disclosure Room may be closed for all or a portion of the reopened comment period due to circumstances surrounding the COVID-19 pandemic caused by the novel coronavirus.

Warning to Commentors and Requestors: Please DO NOT submit any personal information you consider to be confidential or protected (such as your Social Security number or an unlisted phone number) or any confidential business information you do not want to be publicly disclosed on your comment, request to testify, and testimony summary. Please also be aware that the Federal eRulemaking Portal on Regulations.gov is an “anonymous access” system, meaning EBSA will not know your identity or contact information unless you provide it.

Signed at Washington, DC, this 15th day of August, 2022.
Ali Khawar,
Acting Assistant Secretary, Employee Benefits Security Administration, U.S. Department of Labor.

[FR Doc. 2022-17996 Filed 8-19-22; 8:45 am]

BILLING CODE 4510-29-P